DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: National Immunization Survey Evaluation Study.

Form Number(s): Numerous.

OMB Control Number: None.

Type of Request: New collection.

Burden Hours: 1,445.

Number of Respondents: 2,695.

Average Hours Per Response: 32 minutes.

Needs and Uses: On behalf of the Centers for Disease Control and Prevention (CDC), U.S. Department of Health and Human Services, the U.S. Census Bureau requests authorization of the Office of Management and Budget (OMB) to conduct an evaluation study of an alternative sampling methodology for the National Immunization Survey (NIS). The purpose of this study is to explore how collaborating with the CDC and using the American Community Survey (ACS) as the sampling frame for selecting eligible households could result in improvements to the NIS. Use of the ACS as a sampling frame, which includes non-landline households and also identifies households with age-eligible children, would provide a more complete sampling frame for the NIS and could substantially reduce data collection costs.

The NIS is currently a continuing, nationwide random-digit-dialing (RDD) landline telephone survey of families with children aged 19 to 35 months, and teens aged 13-17 years, followed by a mailed survey to children's immunization providers. Since the survey's inception to the present, private contractors have conducted the NIS for the CDC. National, state, and local level estimates of vaccine-specific coverage, including newly licensed vaccines, are produced annually.

The NIS was established to provide an on going, consistent data set for analyzing vaccination coverage among young children in the United States and disseminating this information to state and local health departments and other interested public health partners. One of the goals of the 1993 Childhood Immunization Initiative was to achieve target vaccination coverage levels for 2-year-old children. One of the activities for meeting these goals was to improve surveillance for vaccine coverage. As a result, funding for the NIS was provided and data collection began in April 1994. Subsequently, national Healthy People 2000 and 2010 objectives included targets for childhood and adolescent vaccination rates. Currently, the NIS provides vaccination coverage estimates annually for children aged 19-35 months and teens aged 13-17 years, by state and at least six city/county areas. The information collected is used to evaluate state and local immunization programs, to develop health care policies, and to assist in the determination of funding allocations for the Vaccines for Children (VFC) program. Since 1994, the VFC program has helped families of children who may not otherwise have access to vaccines by providing free vaccines to doctors who serve them.

In recent years, the NIS has covered a decreasing portion of the target population as more households rely solely on cell phone telephone service. Based on data from January-June 2008 from the National Health Interview Survey (NHIS), 29 percent of children under three years of age lived in households without landline services. Among households with both landline and cell phone service, some may primarily use their cell phones and be less likely to respond to calls to their landlines. As part of the CDC's continuing effort to evaluate and refine the NIS, this study is intended to explore how sampling from the ACS for households with age-eligible children having landline, cell phone only, and no telephone service could result in improvements to the survey, particularly in terms of coverage, response, and cost, and whether the ACS and supplemental administrative files can be used to identify a sufficient sample of children for national, state and local level assessment.

The NIS is the largest survey ever conducted to assess vaccination coverage of young children and adolescents in the U.S. and is used to measure and assess changes in vaccination coverage levels over time. Also, the NIS helps track progress towards public health immunization goals. The purpose of this evaluation study is to determine if using the ACS as the frame from which to select the NIS sample will result in improvements to the survey, in terms of providing a more complete sampling frame, increasing response rates, and decreasing data collection costs. The evaluation study will be kept as closely as possible to the current NIS to allow comparisons, but plans are to incorporate innovations that could be implemented eventually as part of a full production survey. With the overall goal of improving response rates and coverage, possible experiments could include offering incentives to all sampled households or using different versions of the advance letter or screener to encourage participation.

The NIS is an important tool for measuring vaccination coverage levels for the nation; however, there are limitations and challenges that the current NIS faces. The NIS evaluation study provides the CDC with the opportunity to explore some possible changes to the survey methodology in an attempt to assess new options and refine current methods. One major design change is in the sample selection. The current NIS sample is selected by landline RDD, whereas the sample for the NIS Evaluation Study is a targeted sample of age-eligible respondents drawn from the ACS sample. Using the ACS as the NIS sampling frame provides a rich source of data for non-respondents and allows for more powerful weighting adjustments. Furthermore, the NIS RDD sample is limited to households with landline telephone service. However, the Evaluation Study sample will not only include households with landline service but also non-landline households (wireless service only) and households with no phone service. The information collected from the latter two groups will assist the CDC in assessing the potential bias in the current NIS estimates from the exclusion of these households. However, the success of the evaluation is contingent on the Census Bureau's ability to draw sufficient sample from the ACS for state and local area estimates.

Affected Public: Individuals or households; businesses or other for-profit.

Frequency: One time.

Respondent's Obligation: Voluntary.

Legal Authority: Title 13, United States Code, Section 8 and the Public Health Service Act, Title 42, United States Code, Sections 306 & 2102(a)(7).

OMB Desk Officer: Brian Harris-Kojetin, (202) 395-7314.

Copies of the above information collection proposal can be obtained by calling or writing Diana Hynek, Departmental Paperwork Clearance Officer, (202) 482-0266, Department of Commerce, Room 7845, 14th and Constitution Avenue, NW., Washington, DC 20230 (or via the Internet at dhynek@doc.gov).

Written comments and recommendations for the proposed information collection should be sent within 30 days of publication of this notice to Brian Harris-Kojetin, OMB Desk Officer either by fax (202-395-7245) or email (bharrisk@omb.eop.gov).

Dated: March 11, 2009.
Glenna Mickelson,
Management Analyst, Office of the Chief Information Officer.

[FR Doc. E9-5657 Filed 3-16-09; 8:45 am]

BILLING CODE 3510-07-P